NUCLEAR REGULATORY COMMISSION

[NRC-2024-0165]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 31, 2024. A request for a hearing or petitions for leave to intervene must be filed by December 2, 2024. This monthly notice includes all amendments issued, or proposed to be issued, from August 16, 2024, to September 12, 2024. The last monthly notice was published on September 3, 2024.

ADDRESSES: You may submit comments by any of the following methods; however, the NRC encourages electronic comment submission through the Federal rulemaking website.

• Federal rulemaking website: Go to https://www.regulations.gov and search for Docket ID NRC-2024-0165. Address questions about Docket IDs in Regulations.gov to Stacy Schumann; telephone: 301-415-0624; email: Stacy.Schumann@nrc.gov. For technical questions, contact the individual listed in the “FOR FURTHER INFORMATION CONTACT” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001; telephone: 301-415-1506; email: Kay.Goldstein@nrc.gov.

SUPPLEMENTARY INFORMATION:

I. Obtaining Information and Submitting Comments

A. Obtaining Information

Please refer to Docket ID NRC-2024-0165, facility name, unit number(s), docket number(s), application date, and subject when contacting the NRC about the availability of information for this action. You may obtain publicly available information related to this action by any of the following methods:

• Federal Rulemaking website: Go to https://www.regulations.gov and search for Docket ID NRC-2024-0165.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0165, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, federally recognized Indian Tribe, or designated agency thereof, may submit a petition to the Commission to participate as a party under 10 CFR 2.309(h) no later than 60 days from the date of publication of this notice. Alternatively, a State, local governmental body, federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Duke Energy Carolinas, LLC; Oconee Nuclear Station, Units 1, 2, and 3; Oconee County, SC
Docket Nos. | 50-269, 50-270, 50-287.
Application date | July 29, 2024.
ADAMS Accession No. | ML24212A048.
Location in Application of NSHC | Pages 16-18 of the Enclosure.
Brief Description of Amendments | The proposed amendments would revise Technical Specification (TS) 3.7.7, “Low Pressure Service Water (LPSW) System” by allowing a one-time extended Completion Time for one required LPSW pump inoperable. The proposed amendment would modify the current Completion Time Note associated with TS 3.7.7, Condition A, Required Action A.1 to 360 hours to be used once during an Oconee Unit 2 refueling outage. The proposed extended Completion Time would have an expiration date of December 31, 2027.
Proposed Determination | NSHC.
Name of Attorney for Licensee, Mailing Address | Tracey Mitchell LeRoy, Deputy General Counsel, Duke Energy Corporation, 525 S. Tryon Street, Charlotte, NC 28210.
NRC Project Manager, Telephone Number | Jack Minzer Bryant, 301-415-0610.
Pacific Gas and Electric Company; Diablo Canyon Nuclear Power Plant, Units 1 and 2; San Luis Obispo County, CA
Docket Nos. | 50-275, 50-323.
Application date | July 31, 2024.
ADAMS Accession No. | ML24213A331.
Location in Application of NSHC | Pages 84-87 of the Enclosure.
Brief Description of Amendments | The proposed amendments would revise Technical Specification 5.5.16, “Containment Leakage Rate Testing Program,” by replacing the reference to Regulatory Guide (RG) 1.163, “Performance-Based Containment Leak-Test Program,” with Revision 1 of RG 1.163 and associated changes.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
PSEG Nuclear LLC; Salem Nuclear Generating Station, Unit Nos. 1 and 2; Salem County, NJ
Docket Nos. | 50-272, 50-311.
Application date | July 24, 2024.
ADAMS Accession No. | ML24206A100.
Location in Application of NSHC | Pages 8-10 of Enclosure 1.
Brief Description of Amendments | The proposed amendments would revise technical specifications for Salem Generating Station Unit Nos. 1 and 2 to allow the use of Optimized ZIRLO as an approved fuel rod cladding material.
Proposed Determination | NSHC.
Name of Attorney for Licensee, Mailing Address | Francis Romano, PSEG—Services Corporation, 80 Park Plaza, T-10, Newark, NJ 07102.
NRC Project Manager, Telephone Number | James Kim, 301-415-4125.
Tennessee Valley Authority; Sequoyah Nuclear Plant, Units 1 and 2; Hamilton County, TN; Tennessee Valley Authority; Watts Bar Nuclear Plant, Units 1 and 2; Rhea County, TN
Docket Nos. | 50-327, 50-328, 50-390, 50-391.
Application date | December 18, 2023, as supplemented by letter dated August 19, 2024.
ADAMS Accession No. | ML23352A298, ML24232A071.
Location in Application of NSHC | Pages E5 and E6 of Enclosure to ML23352A298; Page E1 of Enclosure to ML24232A071.
Brief Description of Amendments | The proposed amendments would revise Sequoyah Nuclear Plant, Units 1 and 2, and Watts Bar Nuclear Plant, Units 1 and 2, Technical Specification (TS) 3.3.2, “Engineered Safety Feature Actuation System (ESFAS) Instrumentation,” Table 3.3.2-1, Function 5.a, “Automatic Actuation Logic and Actuation Relays,” and Function 5.b, “SG [Steam Generator] Water Level-High High (P-14),” to add a note stating when the turbine trip function is not required. Additionally, the proposed amendments would revise Note (f) of Watts Bar Nuclear Plant, Unit 1, TS Table 3.3.2-1, Functions 5.a and 5.b, and Note (h) of Watts Bar Nuclear Plant, Unit 2, TS Table 3.3.2-1, Functions 5.a and 5.b, to be consistent with Sequoyah Nuclear Plant, Units 1 and 2, TS Table 3.3.2-1, Functions 5.a and 5.b, and with the corresponding Note and Table in Westinghouse Standard TS (NUREG-1431, Revision 5.0). Additionally, the proposed amendments would re-letter the notes in Sequoyah Nuclear Plant, Units 1 and 2, TS Table 3.3.2-1 due to the addition of the new note, and delete Note (j) and Note (k) from Watts Bar Nuclear Plant, Units 1 and 2, respectively, as well as re-letter the remaining notes accordingly.
Proposed Determination | NSHC.
Name of Attorney for Licensee, Mailing Address | David Fountain, Executive VP and General Counsel, Tennessee Valley Authority, 400 West Summit Hill Drive, WT 6A-K, Knoxville, TN 37902.
NRC Project Manager, Telephone Number | Kimberly Green, 301-415-1627.
Wolf Creek Nuclear Operating Corporation; Wolf Creek Generating Station, Unit 1; Coffey County, KS
Docket Nos. | 50-482.
Application date | July 31, 2024.
ADAMS Accession No. | ML24213A335.
Location in Application of NSHC | Pages 15-17 in Attachment I.
Brief Description of Amendments | The proposed amendment would revise Technical Specification (TS) 3.2.1, “Heat Flux Hot Channel Factor (FQ(Z)) (FQ Methodology),” and TS 5.6.5, “Core Operating Limits Report (COLR),” to implement the methodology from WCAP-17661-P-A, Revision 1, “Improved RAOC [Relaxed Axial Offset Control] and CAOC [Constant Axial Offset Control] FQ Surveillance Technical Specifications.”
Proposed Determination | NSHC.
Name of Attorney for Licensee, Mailing Address | Chris Johnson, Corporate Counsel Director, Evergy, One Kansas City Place, 1KC-Missouri HQ 16, 1200 Main Street, Kansas City, MO 64105.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Arizona Public Service Company, et al; Palo Verde Nuclear Generating Station, Units 1, 2, and 3; Maricopa County, AZ
Docket Nos. | 50-528, 50-529, 50-530.
Amendment Date | August 20, 2024.
ADAMS Accession No. | ML24208A061.
Amendment Nos. | 224 (Unit 1), 224 (Unit 2), and 224 (Unit 3).
Brief Description of Amendments | The amendments revised Technical Specification (TS) 3.5.1, “Safety Injection Tanks (SITs)—Operating”; TS 3.5.2, “Safety Injection Tanks (SITs)—Shutdown”; and TS 3.6.5, “Containment Air Temperature.” Specifically, the changes revised the SIT volumes as design values expressed in cubic feet from the loss-of-coolant accident analyses with no instrument uncertainties included. Additionally, the changes revised the containment average air temperature limiting condition for operation limit to reflect the design-basis accident analytical limit without instrument uncertainty.
Public Comments Received as to Proposed NSHC (Yes/No) | No.
Constellation Energy Generation, LLC; Braidwood Station, Units 1 and 2; Will County, IL
Docket Nos. | 50-456, 50-457.
Amendment Date | September 10, 2024.
ADAMS Accession No. | ML24164A003.
Amendment Nos. | 235 (Unit 1), 235 (Unit 2).
Brief Description of Amendments | The amendments revised Technical Specification Surveillance Requirement 3.7.9.2 to allow an ultimate heat sink temperature of less than or equal to 102.8°F through September 30, 2024.
Public Comments Received as to Proposed NSHC (Yes/No) | No.
Duke Energy Carolinas, LLC; Oconee Nuclear Station, Units 1, 2, and 3; Oconee County, SC
Docket Nos. | 50-269, 50-270, 50-287.
Amendment Date | August 26, 2024.
ADAMS Accession No. | ML24145A178.
Amendment Nos. | 430 (Unit 1), 432 (Unit 2), and 431 (Unit 3).
Brief Description of Amendments | The amendments revised Technical Specification 5.5.2, “Containment Leakage Rate Testing Program,” by allowing a one-time extension to the 10-year frequency of the containment integrated leakage rate test (ILRT). The amendments permit the existing ILRT frequency to be extended from 10 years to approximately 12 years for all three Oconee units.
Public Comments Received as to Proposed NSHC (Yes/No) | No.
Indiana Michigan Power Company; Donald C. Cook Nuclear Plant, Units 1 and 2; Berrien County, MI
Docket Nos. | 50-315, 50-316.
Amendment Date | September 3, 2024.
ADAMS Accession No. | ML24225A002.
Amendment Nos. | 363 (Unit1), 344 (Unit 2).
Brief Description of Amendments | The amendments revised Technical Specification (TS) 3.8.1, “AC [Alternating Current] Sources—Operating,” by adding a footnote for TS 3.8.1, Required Action A.3, to allow a one-time completion time extension from 72 hours to 288 hours to support the replacement of the 12AB (Train B) Loop Feed Enclosure and associated bus for the Train B reserve feed preferred power source.
Public Comments Received as to Proposed NSHC (Yes/No) | No.
Southern Nuclear Operating Company, Inc.; Joseph M. Farley Nuclear Plant, Units 1 and 2; Houston County, AL
Docket Nos. | 50-348, 50-364.
Amendment Date | August 29, 2024.
ADAMS Accession No. | ML24242A133.
Amendment Nos. | 250 (Unit 1), 247 (Unit 2).
Brief Description of Amendments | The amendments revised the Joseph M. Farley, Units 1 and 2, Renewed Facility Operating License Technical Specification (TS) 3.6.5, “Containment Air Temperature,” Actions upon exceeding the TS 3.6.5 Limiting Condition for Operation (LCO) limit of containment average air temperature ≤120 degrees Fahrenheit (°F) and removes an expired LCO Note. Specifically, the amendments relocate existing TS 3.6.5 Required Action A.1 as Required Action A.3 and revises the associated Completion Time and adds a clarifying Completion Time Note, adds Required Actions and Completion Times A.1 and A.2, for Condition A when containment average air temperature is not within the LCO limit.
Public Comments Received as to Proposed NSHC (Yes/No) | No.
Tennessee Valley Authority; Watts Bar Nuclear Plant, Units 1 and 2; Rhea County, TN
Docket Nos. | 50-390, 50-391.
Amendment Date | August 27, 2024.
ADAMS Accession No. | ML24218A144.
Amendment Nos. | 169 (Unit 1), 75 (Unit 2).
Brief Description of Amendments | The amendments revised the Watts Bar Nuclear Plant, Units 1 and 2, Technical Specification Surveillance Requirement 3.9.5.1 to reduce the minimum required flow rate for circulating reactor coolant with one residual heat removal loop in operation from 2,500 gallons per minute (gpm) to 2,000 gpm.
Public Comments Received as to Proposed NSHC (Yes/No) | No.
Virginia Electric and Power Company; Surry Power Station, Unit Nos. 1 and 2; Surry County, VA
Docket Nos. | 50-280, 50-281.
Amendment Date | August 23, 2024.
ADAMS Accession No. | ML24219A237.
Amendment Nos. | 319 (Unit 1), 319 (Unit 2).
Brief Description of Amendments | The amendments revised the Surry Power Station, Unit Nos. 1 and 2, technical specifications to adopt Technical Specifications Task Force (TSTF) Traveler TSTF- 577, Revision 1, “Revised Frequencies for Steam Generator Tube Inspections” related to steam generator tube inspection and reporting changes based on operating history.
Public Comments Received as to Proposed NSHC (Yes/No) | No.
Vistra Operations Company LLC; Comanche Peak Nuclear Power Plant, Unit Nos. 1 and 2; Somervell County, TX
Docket Nos. | 50-445, 50-446.
Amendment Date | August 20, 2024.
ADAMS Accession No. | ML24179A077.
Amendment Nos. | 189 (Unit 1) ,189 (Unit 2).
Brief Description of Amendments | The amendments revised Technical Specification 3.8.1, Required Action B.4, to extend the allowed outage time for an inoperable emergency diesel generator from 72 hours to 14 days.
Public Comments Received as to Proposed NSHC (Yes/No) | No.
Vistra Operations Company LLC; Comanche Peak Nuclear Power Plant, Unit Nos. 1 and 2; Somervell County, TX
Docket Nos. | 50-445, 50-446.
Amendment Date | August 28, 2024.
ADAMS Accession No. | ML24194A133.
Amendment Nos. | 190 (Unit 1) and 190 (Unit 2).
Brief Description of Amendments | The amendments revised technical specifications to adopt Technical Specifications Task Force (TSTF) Traveler TSTF-589, “Eliminate Automatic Diesel Generator Start During Shutdown.”
Public Comments Received as to Proposed NSHC (Yes/No) | No.

Dated: September 24, 2024.
For the Nuclear Regulatory Commission.
Aida Rivera-Varona,
Deputy Director, Division of Operating Reactor Licensing, Office of Nuclear Reactor Regulation.

[FR Doc. 2024-22249 Filed 9-30-24; 8:45 am]

BILLING CODE 7590-01-P